DEPARTMENT OF COMMERCE

National Oceanic and Atmospheric Administration

RIN 0648-XF152

Council Coordination Committee Meeting

AGENCY: National Marine Fisheries Service (NMFS), National Oceanic and Atmospheric Administration (NOAA), Commerce.

ACTION: Notice of a public meeting.

SUMMARY: NMFS will host a meeting of the Council Coordination Committee (CCC), consisting of the Regional Fishery Management Council chairs, vice chairs, and executive directors on February 28-March 1, 2017. The intent of this meeting is to discuss issues of relevance to the Councils and NMFS, including issues related to the implementation of the Magnuson-Stevens Fishery Conservation and Management Reauthorization Act. Agenda items include discussions on budget allocations for FY2017 and budget planning for FY2018; an update on current joint science initiatives, including Ecosystem Based Fisheries Management; the FY2017 legislative outlook; updates on planning for the CCC Scientific Coordination Committee meeting, NMFS bycatch reduction strategy, the NMFS National Standard 1 guidance and implementation, Marine Recreational Information Program updates, stock assessment improvement plan; and other topics related to implementation of the Magnuson-Stevens Fishery Conservation and Management Reauthorization Act.

DATES: The meeting will begin at 8:30 a.m. on Tuesday, February 28, 2017, recess at 5:00 p.m. or when business is complete; and reconvene at 8:30 a.m. on Wednesday, March 1, 2017, and adjourn by 4:30 p.m. or when business is complete.

ADDRESSES: The meeting will be held at the Ritz-Carlton, Pentagon City, 1250 South Hayes Street; Arlington, VA 22202; Telephone: (703) 415-5000.

FOR FURTHER INFORMATION CONTACT: Brian Fredieu: telephone 301-427-8505 or email at Brian.Fredieu@noaa.gov.

SUPPLEMENTARY INFORMATION: The Magnuson-Stevens Fishery Conservation and Management Reauthorization Act established the CCC by amending Section 302 (16 U.S.C. 1852) of the MSA. The committee consists of the chairs, vice chairs, and executive directors of each of the eight Regional Fishery Management Councils authorized by the MSA or other Council members or staff. NMFS will host this meeting and provide reports to the CCC for its information and discussion. All sessions are open to the public. Updates to this meeting will be provided in subsequent notices and additional information will be posted on http://www.nmfs.noaa.gov/sfa/management/councils/ccc/ccc.htm when available.

The CCC will meet as late as necessary to complete scheduled business.

Special Accommodations

This meeting is physically accessible to people with disabilities. Requests for sign language interpretation or other auxiliary aids should be directed to Brian Fredieu at 301-427-8505 at least five working days prior to the meeting.

Dated: January 9, 2017.
Alan D. Risenhoover,
Director, Office of Sustainable Fisheries, National Marine Fisheries Service.

[FR Doc. 2017-00558 Filed 1-11-17; 8:45 am]

BILLING CODE 3510-22-P